DEPARTMENT OF JUSTICE

Drug Enforcement Administration

[Docket No. DEA-392]

Importer of Controlled Substances Application: Southern Ohio Correctional Facility

ACTION: Notice of application.

DATES: Registered bulk manufacturers of the affected basic class, and applicants therefore, may file written comments on or objections to the issuance of the proposed registration or the proposed authorization to import on or before August 29, 2019. Such persons may also file a written request for a hearing on the application for registration and for authorization to import on or before August 29, 2019.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for hearing a should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION:

Pursuant to 21 U.S.C. 958(i), prior to issuing a regulation under 21 U.S.C. 952(a)(2)(B) authorizing the importation of a controlled substance in schedule I or II, DEA is required to provide manufacturers holding registrations for the bulk manufacture of the substance an opportunity for a hearing. Additionally, pursuant to 21 CFR 1301.34(a), DEA shall, upon the filing of an application for registration to import a controlled substance in schedule I or II under 21 U.S.C. 952(a)(2)(B), provide notice and the opportunity to request a hearing to manufacturers holding registrations for the bulk manufacture of the substance and to applicants for such registrations.

Therefore, in accordance with 21 U.S.C. 958(i) and 21 CFR 1301.34(a), this is notice that on January 31, 2017, Southern Ohio Correctional Facility, 1724 State Route 728, Lucasville, Ohio 45699, applied to be registered as an importer of Pentobarbital (2270), a basic class of controlled substance listed in schedule II.

The facility intends to import the above-listed controlled substance for legitimate use. This particular controlled substance is not available for the intended legitimate use within the current domestic supply of the United States.

Any bulk manufacturer who is presently, or is applying to be, registered with DEA to manufacture this basic class of controlled substance may file comments or objections to the issuance of the proposed registration or to the authorization of this importation, and may, at the same time, file a written request for a hearing. Any such comments, objections, or hearing requests should be addressed as described above.

Dated: July 16, 2019.
John J. Martin,
Assistant Administrator.

[FR Doc. 2019-16165 Filed 7-29-19; 8:45 am]

BILLING CODE 4410-09-P